DEPARTMENT OF COMMERCE

Submission for OMB Review; Comment Request

The Department of Commerce will submit to the Office of Management and Budget (OMB) for clearance the following proposal for collection of information under the provisions of the Paperwork Reduction Act (44 U.S.C. Chapter 35).

AGENCY: National Oceanic and Atmospheric Administration (NOAA).

Title: NOAA Fisheries Northeast Region Gear Identification Requirements.

OMB Approval Number: 0648-0351.

Form Number(s): None.

Type of Request: Regular submission.

Burden Hours: 24,429.

Number of Respondents: 200

Average Hours per Response: 1 minute.

Needs and Uses: Regulations at 50 CFR 648.84(a),(b), and (d), § 648.123(b)(3), § 648.144(b)(1), § 648.264(a)(5), and § 697.21(a) and (b) require that Federal fishing permit holders using specified fishing gear mark that gear with specified information for the purposes of identification (e.g., official vessel number, permit number, or other methods identified in the regulations). The regulations also specify how the gear is to be marked for the purposes of visibility (e.g., buoys, radar reflectors, or other methods identified in the regulations). The display of the identifying characters on fishing gear aids in fishery law enforcement. The marking of gear for visibility increases safety at sea.

Affected Public: Business or other for-profit organizations.

Frequency: Every three years.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 16, 2007.
Gwellnar Banks,
Management Analyst, Office of the Chief Information Officer.

[FR Doc. E7-22767 Filed 11-20-07; 8:45 am]

BILLING CODE 3510-22-P